DEPARTMENT OF AGRICULTURE

Office of the Secretary

Notice of the USDA Technology and eGovernment Advisory Council Meeting

AGENCY: Office of the Chief Information Officer, USDA.

ACTION: Notice of meeting.

SUMMARY: In accordance with the Federal Advisory Committee Act, 5 U.S.C. App 2, the United States Department of Agriculture announces a meeting of the USDA Technology and eGovernment Advisory Council. The Council will advise the Secretary and the Chief Information Officer in planning and developing strategies for technology and eGovernment Initiatives.

DATES: The USDA Technology and eGovernment Advisory Council will meet on March 29, 2005 from 8:30 a.m. to 4:30 p.m.; and March 30, 2004 from 8:30 a.m. to 4 p.m.

Written comments for the public record will be welcomed before or up to two weeks after the meeting and should be submitted to the Contact Person in this notice. All comments will become part of the official record of the Advisory Council.

ADDRESSES: The meeting will take place at the South Building, Room s107; and the Jamie L. Whitten Building, Room 104A, 1400 Independence Ave., SW., Washington, DC 20250. Please send written comments to the Contact Person identified herein at: Office of the Chief Information Officer, 1400 Independence Ave., SW., Room 405W, Jamie L. Whitten Building, United States Department of Agriculture, Washington, DC 20250; and electronic comments to the Contact Person at sandy.facinoli2@usda.gov.

FOR FURTHER INFORMATION CONTACT: Sandy Facinoli, Designated Federal Official, USDA Technology and eGovernment Advisory Council; telephone: (202) 720-2786; fax: (202) 205-2831.

SUPPLEMENTARY INFORMATION: On Tuesday and Wednesday, March 29, 2005 from 8:30 a.m. to 4:30 p.m.; and March 30, 2005 from 8:30 a.m. to 4 p.m., the USDA Technology and eGovernment Advisory Council will hold a meeting at the South and Jamie L. Whitten Building, United States Department of Agriculture, 1400 Independence Ave., SW., Washington, DC 20250.

Pursuant to 41 CFR 102-3.160, the meeting will be closed to the public so that the Council can conduct administrative matters. The Council is editing and revising their draft report due to the Secretary by May 31, 2005. The report will be presented at a subsequent public meeting and be available for public comment as well as published on the USDA public Web site, http://www.usda.gov.

Scott Charbo,
Chief Information Officer.

[FR Doc. 05-5405 Filed 3-17-05; 8:45 am]

BILLING CODE 3410-11-M